NATIONAL LABOR RELATIONS BOARD

29 CFR Parts 101, 102, 103

RIN 3142-AAO8

Representation Case Procedures

AGENCY: National Labor Relations Board.

ACTION: Proposed rule; notice of meeting.

SUMMARY: The National Labor Relations Board (NLRB or Board) invites interested parties to attend an open meeting of the Board on November 30, 2011, at 2:30 p.m. The meeting will be held in the Board Agenda Room (Room 11820), National Labor Relations Board, 1099 14th Street NW., Washington, DC 20570. The purpose of the meeting will be to vote on how to proceed in this rulemaking proceeding. No public testimony or comments will be received.

DATES: The meeting will be held on Wednesday, November 30, 2011, beginning at 2:30 p.m. Due to time and seating considerations, persons desiring to attend the meeting must notify the NLRB staff, no later than 4 p.m. on Monday, November 28, 2011.

ADDRESSES: The public meeting will be held in the Board Agenda Room (Room 11820), National Labor Relations Board, 1099 14th Street NW., Washington, DC 20570. Requests to attend the meeting must be addressed to Mary Meyers, Administrative Assistant to the Chairman, National Labor Relations Board, 1099 14th Street, NW., Suite 11100, Washington, DC 20570. Requests may also be made electronically to publicmeeting@nlrb.gov. All communications must include the following words on the Subject Line—“REQUEST TO ATTEND PUBLIC MEETING REGARDING RIN 3142-AA08.”

FOR FURTHER INFORMATION CONTACT: Mary Meyers, Administrative Assistant to the Chairman, National Labor Relations Board, 1099 14th Street NW., Suite 11100, Washington, DC 20570; Phone: (202) 273-1700; Email:publicmeeting@nlrb.gov.

SUPPLEMENTARY INFORMATION: The National Labor Relations Board will hold an open public meeting on Wednesday, November 30, 2011, at 2:30 p.m. The purpose of the meeting will be to vote on how to proceed in this rulemaking proceeding. No public testimony or comments will be received.

On June 22, 2011, the NLRB published a Notice of Proposed Rulemaking (NPRM) (76 FR 36812), proposing to amend its rules and regulations governing the filing and processing of petitions relating to the representation of employees for purposes of collective bargaining with their employer. In addition to the comment procedure outlined in the NPRM, the NLRB provided another opportunity for interested persons to provide their views to the Board on this important matter at an open public meeting. This public meeting was held on July 18-19, 2011, with 66 witnesses testifying before the Board. Thereafter, the deadline for filing initial public comments was August 22, 2011, and the deadline for filing reply comments was September 6, 2011. Over 65,000 written comments have been received and analyzed. The Board must now decide how to proceed in this matter.

Persons desiring to attend the meeting must notify the NLRB staff, in writing, at the above listed physical or email address, by the deadline posted. Attendees are reminded to bring a photo identification card with them to the public meeting in order to gain admittance to the building. Due to space limitations in the meeting room, an overflow room has been established in the Margaret A. Browning Hearing Room (Room 11000), where persons will be able to observe the meeting by video conference. The meeting will also be available for viewing on the Internet.

Agenda: The meeting will be limited to issues related to the proposed amendments to the Board's rules governing representation-case procedures. A copy of the NPRM may also be obtained from the NLRB's Web site at: http://www.nlrb.gov/nprm.

Dated: November 18, 2011.
Mark Gaston Pearce,
Chairman.

[FR Doc. 2011-30280 Filed 11-22-11; 8:45 am]

BILLING CODE 7545-01-P